FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street, SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Acting Director, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
ALABAMA
Cowarts (Town), Houston County (FEMA Docket No. D-7307)
Crawford Creek:
Approximately 1,325 feet downstream of Omusee Road | *228
Just upstream of Omusee Road | *233
Maps available for inspection at the Cowarts Town Hall, 800 Jester Street, Cowarts, Alabama.
———
Dothan (City), Houston County (FEMA Docket No. D-7307)
Rock Creek:
Approximately 50 feet upstream of the confluence with Little Choctawhatchee River | *228
At Murray Road | *312
Beaver Creek Tributary 1:
Approximately 300 feet downstream of Honeysuckle Road | *270
Approximately 100 feet upstream of State Route 52 | *305
Poplar Spring Branch:
At the confluence with Omusee Creek | *216
At a point approximately 300 feet upstream of U.S. Route 84 | *283
Rocky Branch:
Approximately 150 feet upstream of the confluence with Omusee Creek | *231
At East Wilson Street | *301
Cypress Creek:
Approximately 1,700 feet upstream of Hodgesville Road | *227
Approximately 60 miles upstream of East Coe Dairy Road | *291
Beulah Creek:
Approximately 1,500 feet upstream of the confluence with Omusee Creek | *233
Approximately 1.04 miles upstream of Headland Avenue | *276
Omusee Creek:
Approximately 50 feet upstream of the confluence of Golf Creek | *208
Approximately 0.33 mile upstream of Old Kinsey Road | *230
Golf Creek:
At the confluence with Omusee Creek | *208
At Prevatt Road | *264
Crawford Creek:
At the confluence with Golf Creek | *208
Approximately 1,325 feet downstream of Omusee Road | *228
Cypress Creek Tributary 1:
At the confluence with Cypress Creek | *250
Approximately 1,500 feet upstream of Cottonwood Road | *281
Cypress Creek Tributary 2:
Just upstream of Third Avenue | *240
Just upstream of dirt trail | *296
Chipola Creek:
At Fuller Road | *240
Just upstream of Taylor Road | *282
Chipola Creek Tributary:
At the confluence with Chipola Creek | *266
Approximately 0.41 mile upstream of Bruner Road | *284
Beaver Creek Tributary 2:
Approximately 250 feet upstream from the confluence with Beaver Creek | *223
Approximately 530 feet upstream of most upstream dam | *249
Beaver Creek Tributary 3:
At the confluence with Beaver Creek Tributary 2 | *247
Just downstream of Enterprise Highway | *298
Harrison Mill Creek:
Approximately 0.37 mile upstream of the confluence with Little Choctawhatchee River | *205
Approximately 0.5 mile upstream of Bethlehem Road | *224
Cooper Creek:
Approximately 1,725 feet upstream of Lucy Grade Road | *205
Approximately 190 feet upstream of Fowler Road | *219
Unnamed Tributary to Beulah Creek:
At the confluence with Beulah Creek | *276
Approximately 340 feet upstream of the confluence with Beulah Creek | *277
Maps available for inspection at the Dothan City Hall, 126 North St. Andrews, Dothan, Alabama.
———
Houston County (Unincorporated Areas) (FEMA Docket No. D-7307)
Rocky Branch:
At the confluence with Omusee Creek | *231
Approximately 150 feet upstream of confluence with Omusee Creek | *231
Chipola Creek:
Approximately 300 feet downstream of South Park Avenue | *250
Approximately 1,275 feet upstream of Bruner Road | *261
Golf Creek:
At the confluence of Omusee Creek | *208
At the confluence of Crawford Creek | *208
Cypress Creek Tributary 2:
At the confluence of Cypress Creek | *238
Approximately 450 feet upstream of Reservoir Outlet | *270
Cooper Creek:
At confluence with Cowarts Creek | *192
Approximately 2,000 feet upstream of Lucy Grade Road | *205
Beaver Creek Tributary 2:
At the confluence of Beaver Creek | *223
Approximately 250 feet upstream of the confluence of Beaver Creek | *223
Omusee Creek:
Approximately 1,580 feet downstream of Watson Bridge Road | *207
At the confluence of Beulah Creek and Burdeshaw Mill Creek | *233
Crawford Creek:
At the confluence of Golf Creek | *208
Approximately 1,175 feet upstream of State Route 52 | *227
Cypress Creek:
Approximately 525 feet downstream of Hodgesville Road | *223
Approximately 350 feet downstream of confluence of Cypress Creek Tributary 1 | *250
Maps available for inspection at the Houston County Emergency Management Agency, 114 North Oats Street, Dothan, Alabama.
———
Taylor (Town), Houston County (FEMA Docket No. D-7307)
Chipola Creek:
Approximately 30 feet downstream of Fuller Road | *236
Approximately 100 feet upstream of Fuller Road | *236
Maps available for inspection at the Taylor Town Hall, 1469 South County Road 59, Taylor, Alabama.
FLORIDA
Cinco Bayou (Town), Okaloosa County (FEMA Docket No. D-7283)
Choctawhatchee Bay (along Cinco Bayou):
Approximately 400 feet north of Opp Road and Opp Boulevard | *8
Approximately 800 feet northeast of the intersection of Troy Street Northeast and Yacht Club Drive Northeast at the shoreline | *12
Maps available for inspection at the Town Hall, 10 Yacht Club Drive, Fort Walton Beach, Florida.
———
Destin (City), Okaloosa County (FEMA Docket No. D-7283)
Choctawhatchee Bay:
Approximately 350 feet north of Harbor Lane and Indian Trail Drive intersection | *7
Approximately 900 feet west of the intersection of Calhoun Avenue and Zerbe Street | *10
Gulf of Mexico:
At intersection of Lagoon Drive and Moreno Point Road | *9
Approximately 800 feet south of Miracle Strip Parkway and Airport Road | *16
Maps available for inspection at the Destin City Hall, Community Development Department, 4200 Two Trees Road, Destin, Florida.
———
Fort Walton Beach (City), Okaloosa County (FEMA Docket No. D-7283)
Santa Rosa Sound:
At intersection of 1st Street Southwest and 4th Avenue Southwest | *8
Approximately 1,000 feet south of intersection of Hood Avenue Southeast and Brooks Street Southeast | *11
Choctawhatchee Bay:
Intersection of Arizona Drive and Hughes Street Northeast | *8
Approximately 600 feet northeast of intersection of Bay Drive Northeast and Hollywood Boulevard Northeast | *12
Choctawhatchee Bay (along Garnier Bayou):
Approximately 400 feet northeast of intersection of Martin Place Northwest and Vaughn Street Northwest | *8
Approximately 300 feet southeast of intersection of Bradley Drive and Beach View Drive | *12
Choctawhatchee Bay (along Garnier Bayou):
Approximately 250 feet northeast of intersection of Sherwood Road and Mooney Road | *8
Approximately 300 feet east of intersection of Marshall Drive and Beach View Drive | *12
Maps available for inspection at 107 Miracle Strip Parkway, Fort Walton Beach, Florida.
———
Gulf County (Unincorporated Areas) (FEMA Docket Nos. D-7500, D-7508, and D-7295)
Gulf of Mexico:
Along the coast of the Gulf of Mexico approximately 1,000 feet north of Eagle Harbor | *12
Along the Gulf of Mexico shoreline, approximately 2,000 feet west of Indian Pass | *14
St. Joseph Bay:
Approximately 1,500 feet inland from St. Joseph Bay, along the shoreline of St. Joseph Bay | *8
Along the St. Joseph Bay shoreline, approximately 3 miles southeast of Pig Island | *11
Indian Lagoon:
Along the shoreline of Indian Lagoon, approximately 1,000 feet west of Indian Pass | *9
Approximately 500 feet west of Indian Pass | *10
Maps available for inspection at Gulf County Courthouse, 1000 Cecil G. Costin, Sr., Boulevard, Room 302, Port St. Joe, Florida.
———
Mary Esther (City), Okaloosa County (FEMA Docket No. D-7283)
Santa Rosa Sound:
Approximately 800 feet south of the intersection of Sleepy Hollow Road and Miracle Strip Parkway | *9
Approximately 520 feet south of intersection of Royal Palm Drive and Miracle Strip Parkway | *11
Maps available for inspection at 195 Christobal Road North, Mary Esther, Florida.
———
Niceville (City), Okaloosa County (FEMA Docket No. D-7283)
Choctawhatchee Bay:
At intersection of Bayshore Drive and Weeden Island Drive | *7
Approximately 600 feet southeast of intersection of Bayshore Drive and 7th Street | *10
Swift Creek:
Approximately 100 feet downstream of State Route 20 | *7
Approximately 2,400 feet upstream of State Route 20 | *7
Turkey Creek:
Approximately 100 feet downstream of State Route 85 | *7
Approximately 1,700 feet upstream of State Route 85 | *7
Choctawhatchee Bay (along Boggy Bayou):
Approximately 750 feet west of intersection of Meigs Street and Bayshore Drive | *9
Approximately 100 feet north of intersection of 31st Street and Bayshore Drive | *7
Choctawhatchee Bay (along Rocky Bayou):
Approximately 400 feet southeast of intersection of 11st Street and Baha Vista Drive | *10
At intersection of 11th Street and Baha Vista Drive | *7
Maps available for inspection at 208 North Partin Drive, Niceville, Florida.
———
Oklaloosa County (Unincorporated Areas) (FEMA Docket No. D-7283)
Gulf of Mexico:
Intersection of Santa Rosa Boulevard and Siebert Drive | *9
Approximately 500 feet south of intersection of Abalone Court and Caviar Drive | *16
Santa Rosa Sound:
Approximately 800 feet east of intersection of Woodland Avenue and Miracle Strip Parkway | *8
Approximately 1,000 feet south of intersection of Miracle Strip Parkway and Green Drive | *12
At intersection of Venus Court and Santa Rosa Boulevard | *9
Choctawhatchee Bay:
At intersection of 13th Street South and Tamarck Avenue | *7
Approximately 400 feet south of Wenoma Way and Cherokee Road intersection | *12
Choctawhatchee Bay (along Cinco Bayou):
Approximately 400 feet south of intersection of Valeria Street and Russell Boulevard | *8
Approximately 500 feet southeast of intersection of Bradley Drive and Beach View Drive | *12
Choctawhatchee Bay (along Garnier Bayou):
At intersection of Eglin Parkway and Beach View Drive | *9
Approximately 600 feet southeast of intersection of 2nd Avenue and Beach View Drive | *12
Choctawhatchee Bay (along Boggy Bayou):
Approximately 150 feet south of intersection of Bayshore Drive and Palm Boulevard | *7
Approximately 1,250 feet west of intersection of Bayshore Drive and Palm Boulevard | *10
Choctawhatchee Bay (along Rocky Bayou):
Approximately 150 feet east of intersection of Capri Cove Road and Lido Cove Road | *7
Approximately 500 feet west of intersection of Marina Cove Road and Yacht Club Drive | *10
Lightwood Knot Creek:
Mouth at Garnier Bayou | *8
2,250 feet upstream of State Road 189 | *8
Maps available for inspection at 1804 Lewis Turner Boulevard, Suite 200, Fort Walton Beach, Florida
———
Port St. Joe (City), Gulf County (FEMA Docket Nos. D-7508, and D-7295)
St. Joseph Bay:
Intersection of 11th Street and Palmer Boulevard | *8
Approximately 250 feet west of intersection of Constitution Drive and 14th Street | *12
At intersection of 16th Street and Long Avenue | *8
Shallow Flooding:
Approximately 425 feet southeast of intersection of Fourth Street and Woodward Avenue | *8
Maps available for inspection at the City of Port St. Joe Chamber of Commerce Office, 105 West 4th Street, Port St. Joe, Florida.
———
Shalimar (Town), Okaloosa County (FEMA Docket No. D-7283)
Choctawhatchee Bay:
At northeast corner of intersection of Eglin Parkway and Gardner Drive | *8
Approximately 1,300 feet southwest of the intersection of Old Ferry Road and Gardner Drive | *12
Choctawhatchee Bay (along Garnier Bayou):
Approximately 100 feet east of the intersection of Plew Avenue and Shalimar Drive | *8
Approximately 600 feet west of the intersection of Gardner Drive and Clifford Drive | *12
Maps available for inspection at #2 Cherokee Road, Shalimar, Florida.
———
Valparaiso (City), Okaloosa County (FEMA Docket No. D-7283)
Choctawhatchee Bay:
Approximately 200 feet south of intersection of Florida Avenue and Grand View Avenue | *7
Approximately 1,000 feet east of intersection of Jasmine Avenue and Louisiana Avenue | *10
Choctawhatchee Bay (along Boggy Bayou):
Approximately 500 feet north of the intersection of Bayshore Drive and John Sims Parkway | *7
Approximately 1,250 feet northeast of the intersection of Grand View Avenue and Tennessee Avenue | *10
Maps available for inspection at the City Hall, 465 Valparaiso Parkway, Valparaiso, Florida.
ILLINOIS
Carbon Cliff (Village), Rock Island County (FEMA Docket No. D-7524)
Unnamed Creek:
Approximately 1,750 feet upstream of the Chicago, Rock Island and Pacific Railroad | *577
Approximately 560 feet upstream of the confluence of Tributary 3 to Unnamed Creek | *657
Tributary 1 to Unnamed Creek:
At the confluence with Unnamed Creek | *594
Approximately 0.6 mile upstream of the confluence with Unnamed Creek | *636
Tributary 2 to Unnamed Creek:
At the confluence with Unnamed Creek | *622
Approximately 960 feet upstream of the confluence with Unnamed Creek | *640
Tributary 3 to Unnamed Creek:
At the confluence with Unnamed Creek | *650
Approximately 800 feet upstream of the confluence with Unnamed Creek | *662
Shallow Flooding Area:
Approximately 400 feet southeast of intersection of 1st Avenue and 5th Street | #1
Approximately 200 feet southwest of intersection of 1st Avenue and 5th Street | #1
Maps available for inspection at the Carbon Cliff Village Hall, 106 First Avenue, Carbon Cliff, Illinois.
———
Rock Island (City), Rock Island County (FEMA Docket No. D-7512)
Mississippi River:
At confluence of rock River | *564
Approximately 2,100 feet upstream of confluence with Rock River | *564
Rock River:
At the confluence with Mississippi River | *564
Approximately 0.55 mile downstream of Chicago, Rock Island, and Pacific Railroad | *564
North Channel Rock River:
At confluence with Rock River | *564
Approximately 1,650 feet upstream of confluence with Rock River | *564
Old Channel Mill Creek:
At Interstate 280 | *563
Approximately 1,280 feet upstream of Interstate 280 | *563
Maps available for inspection at the City Hall, 1528 3rd Avenue, Rock Island, Illinois.
———
Rock Island County (Unincorporated Areas) (FEMA Docket No. D-7512)
Shaffer Creek:
At the confluence with Rock Riber | *573
Approximately 900 feet upstream of East 3rd Avenue | *579
Maps available for inspection at the Rock Island County Building, 1504 3rd Avenue, Rock Island, Illinois.
———
Silvis (City), Rock Island County (FEMA Docket No. D-7512)
Unnamed Creek:
Approximately 165 feet upstream of the dam | *650
Approximately 525 feet upstream of the dam | *650
Maps available for inspection at the Silvis City Inspector's Office, 1032 1st Avenue, Silvis, Illinois.
INDIANA
Hamilton (Town), DeKalb and Steuben Counties (FEMA Docket No. D-7524)
Fish Creek:
Approximately 2,750 feet downstream of Bellfountain Road | *888
Approximately 740 feet upstream of South Wayne Street | *891
Maps available for inspection at the Hamilton Town Hall, 7750 South Wayne Street, Hamilton, Indiana.
OHIO
Niles (City), Trumball County (FEMA Docket No. D-7512)
Meander Creek:
Approximately 0.6 mile upstream of CSX Transportation | *862
Approximately 50 feet upstream of corporate limits | *862
Maps available for inspection at the Niles Building and Zoning Department, 34 West State Street, Niles, Ohio.
PENNSYLVANIA
Bullskin (Township), Fayette County (FEMA Docket No. D-7524)
Jacobs Creek:
At the downstream corporate limits | *1,037
At a point approximately 250 feet upstream of State Route 31 | *1,142
Maps available for inspection at the Bullskin Township Municipal Building, 178 Shenandoah Road, Connellsville, Pennsylvania.
———
Everson (Borough), Fayette County) FEMA Docket No. D-7524)
Jacobs Creek:
Approximately 2,400 feet downstream of 5th Avenue | *1,025
Upstream corporate limits | *1,029
Maps available for inspection at Everson Borough Building, Brown Street, Everson, Pennsylvania.
———
Upper Tyrone (Township), Fayette County (FEMA Docket No. D-7524)
Jacobs Creek:
At State Route 819 | *1,020
At upstream corporate limits | *1,037
Stauffer Run:
At confluence with Jacobs Creek | *1,030
At upstream corporate limits | *1,031
Maps available for inspection at the Upper Tyrone Township Building, 259 Montgomery Road, Scottdale, Pennsylvania.
TENNESSEE
Chattanooga (City), Hamilton County (FEMA Docket No. 7512)
North Chickamauga Creek:
At confluence with the Tennessee River | *660
Approximately 200 feet downstream to Thrasher Pike | *682
Tennessee River:
Approximately 1,625 feet downstream of Shoal Creek | *650
Just downstream of Chickamauga Dam | *660
Mountain Creek:
At the confluence with the Tennessee River | *652
Approximately 1,109 feet upstream of the Norfolk Southern Railway | *652
Lookout Creek:
At the confluence with Tennessee River | *654
Approximately 160 feet upstream of the confluence of Black Creek | *654
Black Creek:
At the confluence with Lookout Creek | *654
At downstream side of Norfolk Southern Railway (first crossing) | *654.
Shallow Flooding Areas:
In the vicinity of the Tennessee River, south of Cherokee Boulevard | *656
Stringers Branch:
At the confluence with Mountain Creek | *652
At Signal Mountain Road | *652
Chattanooga Creek:
Approximately 850 feet downstream of Market Street | *655
At downstream side of 2nd crossing of Norfolk Southern Railway | *655
Maps available for inspection at the City of Chattanooga City Hall Annex, 101 East 11th Street, Room 44, Chattanooga, Tennessee.
———
Collegedale (City), Hamilton County (FEMA Docket No. D-7512)
Wolftever Creek Tributary:
At the confluence with Wolftever Creek | *761
Approximately 950 feet upstream of Bill Reed Road | *790
Wolftever Creek:
At the confluence of Wolftever Creek Tributary | *761
Approximately 400 feet upstream of Ringgold-Ooltawah Road | *766
Maps available for inspection at the City of Collegedale Public Safety Director's Office, 4910 Swinyar Drive, Collegedale, Tennessee.
———
East Ridge (City), Hamilton County (FEMA Docket No. D-7512)
Spring Creek:
At Interstate 75 | *679
At Spring Creek Road | *679
South Chickamauga Creek:
Approximately 800 feet downstream of 4th crossing of Louisville and Nashville Railroad | *678
At upstream state boundary | *689
Maps available for inspection at the Building Department, 1517 Tombras Avenue, East Ridge, Tennessee.
———
Gallatin (City), Summer County (FEMA Docket No. D-7522)
Cumberland River:
Approximately 1 mile downstream of the Gallatin Stream Plant gage | *453
Approximately 3.0 miles downstream of the Gallatin Stream Plant gage | *453
Maps available for inspection at the Gallatin City Hall, 132 West Main Street, Gallatin, Tennessee.
———
Goodlettsville (City), Davidson and Sumner Counties (FEMA Docket No. D-7524)
Slaters Creek:
At the confluence with Mansker Creek | *452
Approximately 1,640 feet upstream of Long Drive | *475
Pattens Branch:
At the confluence with Madison Creek | *466
Approximately 1,640 feet upstream of most upstream crossing of Pattens Branch Road | *521
Goodlettsville Outlet Ditch:
At the confluence with Mansker Creek | *437
At the downstream side of Old Long Hollow Pike | *437
Madison Creek:
At the confluence with Mansker Creek | *432
Approximately 1.51 miles upstream of Pattens Branch | *535
Mansker Creek:
At the confluence of Madison Creek | *432
Approximately 1,450 feet upstream of the most upstream crossing of U.S. Route 41 | *485
Willis Branch:
At the confluence with Madison Creek | *432
Approximately 0.12 mile upstream of the confluence with Madison Creek | *432
Maps available for inspection at the Goodlettsville City Hall, 105 South Main Street, Goodlettsville, Tennessee.
———
Hamilton County (Unincorporated Areas) (FEMA Docket No. D-7512)
Rogers Branch:
At confluence with Wolftever Creek | *687
At Access/Montain View Road | *748
Rogers Branch Tributary:
At confluence with Rogers Branch | *719
Approximately 550 feet upstream of Interstate 85 | *742
Wolfever Creek:
At the confluence with Wolftever Creek Tributary | *761
Approximately 350 feet upstream of the confluence of Wolftever Creeks Tributary | *761
Wolftever Creek Tributary:
At the confluence of Wolftever Creek | *761
Approximately 2,200 feet upstream of Bill Reed Road | *795
Little Soddy Creek:
At the City of Soddy-Daisy corporate limits | *820
Approximately 120 feet upstream of the City of Soddy-Daisy corporate limits | *823
Lookout Creek:
Approximately 135 feet downstream of the Norfolk Southern Railway | *654
Approximately 525 feet upstream of Cummings Highway | *654
Tennessee River:
At the county boundary | *646
At the confluence of Shoal Creek | *650
Fruedenberg Creek:
Approximately 250 feet upstream of confluence with Middle Creek | *1,670
Approximately 0.9 mile upstream of confluence with Middle Creek | *1,777
Lick Branch:
At confluence with North Chickamauga Creek | *670
Approximately 50 feet downstream of Thrasher Pike | *676
Lick Branch Tributary 1:
At confluence with Lick Branch | *670
Approximately 100 feet downstream of Thrasher Pike | *683
Lick Branch Tributary 2:
At confluence with Lick Branch | *670
Approximately 50 feet downstream of Thrasher Pike | *675
Lick Branch Tributary 3:
At confluence with Lick Branch | *670
Approximately 50 feet downstream of Thrasher Pike | *680
Middle Creek:
Approximately 1,100 feet downstream of Edwards Point Road | *1,634
Approximately 50 feet downstream of Timesville Road | *1,718
North Chickamauga Creek:
At the upstream side of Lower Mill Road | *669
Approximately 1 mile upstream of Dayton Pike | *753
Possum Creek:
At Lee Pike | *687
Approximately 1.4 miles upstream of Black Valley Road | *862
Sale Creek:
At the confluence with the Tennessee River | *688
Approximately 1,580 feet upstream of the confluence with the Tennessee River | *688
Maps available for inspection at the Regional Planning Agency, County Courthouse, Room 208, Chattanooga, Tennessee.
———
Henderson (City), Sumner County (FEMA Docket No. D-7522
Drakes Creek:
Approximately 0.4 mile upstream of U.S. Route 31E | *452
Approximately 1,200 feet upstream of Long Hollow Pike | *518
Unnamed Tributary 5:
Approximately 50 feet upstream of Buchanan Circle | *507
Approximately 0.4 mile upstream of Buchanan Circle | *523
Station Camp Creek:
Approximately 1,430 feet upstream of Station Camp Creek Road | *456
Approximately 1,060 feet upstream of Long Hollow Pike | *490
Cumberland River:
At the downstream county boundary | *432
At the downstream side of Old Hickory Dam | *432
Center Point Branch:
At the confluence with Mansker Creek | *432
Approximately 1,750 feet upstream of Hickory Lane | *437
Madison Creek:
At the confluence with Mansker Creek | *432
Approximately 250 feet downstream of Long Hollow Pike | *443
Mansker Creek:
At the confluence with Cumberland River | *432
At the confluence of Madison Creek | *432
Maps available for inspection at the Henderson City Hall, One Executive Park Drive, Henderson, Tennessee.
———
Metropolitan Government of Nashville and Davidson County (FEMA Docket No. D-7524)
Mansker Creek:
Upstream side of the most downstream crossing of U.S. Route 41 | *452
At a point approximately 1.14 miles upstream of Old Shiloh Road | *584
Lumsley Fork:
At the confluence with Mansker Creek | *453
At a point approximately 211 feet upstream of the confluence with Mansker Creek | *454
Maps available for inspection at the Metropolitan Government of Nashville and Davidson County Public Works, 720 South 5th Street, Nashville, Tennessee.
———
Millersville (City), Summer County (FEMA Docket No. D-7522)
Slaters Creek:
Just upstream of Long Drive | *471
Approximately 1,140 feet upstream of the most upstream crossing of Interstate 65 | *562
East Fork Slaters Creek:
At the confluence with Slaters Creek | *506
Approximately 0.81 mile upstream of Pole Hill Road | *563
Mansker Creek:
Approximately 1,450 feet upstream of the most upstream crossing of U.S. Route 41 | *485
Approximately 1.1 miles upstream of Old Shiloh Road | *584
Maps available for inspection at the Millersville City Hall, 1246 Louisville Highway, Millersville, Tennessee.
———
Portland (City), Summer County (FEMA Docket No. D-7522)
Donoho Branch:
Approximately 106 feet downstream of College Street | *794
Approximately 0.3 mile upstream of State Route 52 | *805
Portland Channel:
Approximately 1,900 feet downstream of Victor Reiter Parkway | *787
Approximately 0.5 mile upstream of Morningside Drive | *794
Maps available for inspection at the Portland City Hall, 100 South Russel Street, Portland, Tennessee.
———
Red Bank (City), Hamilton County (FEMA Docket No. D-7512)
Stringers Branch:
Approximately 400 feet downstream of Signal Mountain Road | *652
At Barker Road | *785
Maps available for inspection at the Red Bank City Hall, 3117 Dayton Boulevard, Red Bank, Tennessee.
———
Signal Mountain (Town), Hamilton County (FEMA Docket No. D-7512)
Middle Creek:
At Edwards Point Road | *1,641
Approximately 850 feet upstream of Middle Creek Road | *1,675
Frudenberg Creek:
At confluence with Middle Creek | *1,667
Approximately 0.9 mile upstream of confluence with Middle Creek | *1,774
Maps available for inspection at the Building Inspector's Office, 1111 Ridgeway Avenue, Signal Mountain, Tennessee.
———
Soddy-Daisy (City), Hamilton County (FEMA Docket No. D-7512)
North Chickamauga Creek:
Approximately 200 feet downstream of Thrasher Pike | *682
Approximately 1 mile upstream of Dayton Pike | *753
Poe Branch:
Approximately 2,500 feet downstream of Harrison Lane | *684
Approximately 1,325 feet upstream of Card Road | *741
Soddy Creek:
Approximately 50 feet upstream of the Norfolk Southern Railway | *748
Approximately 740 feet upstream of the Norfolk Southern Railway | *758
Maps available for inspection at the City Hall Office, 9835 Dayton Pike, Soddy-Daisy, Tennessee.
———
Summer County (Unincorporated Areas) (FEMA Docket No. D-7522)
Albright Creek:
Approximately 50 feet downstream of Willmore Road | *454
Just downstream of Willmore Road | *454
Arterburn Branch:
At the confluence with Honey Run Creek | *743
Approximately 0.74 mile upstream of the confluence with Honey Run Creek | *769
Jones Branch:
Approximately 0.67 mile upstream of Tyree Springs Road | *804
Approximately 0.69 mile upstream of Tyree Springs Road | *805
Hogan Branch:
At the confluence with Drakes Creek | *545
Approximately 1.3 miles upstream of Hogan Branch Road | *621
Drakes Creek:
Approximately 1,200 feet upstream of Long Hollow Pike | *518
Approximately 0.5 miles upstream of Shell Road | *562
Honey Run Creek:
Approximately 180 feet upstream of U.S. Route 31 West and State Route 41 | *714
At the confluence of Jones Branch and Arberburn Branch | *743
Station Camp Creek:
Approximately 840 feet upstream of Long Hollow Pike | *490
Approximately 1,060 feet upstream of Long Hollow Pike | *490
Maps available for inspection at the Sumner County Building Planner's Office, 355 North Belvedere Drive, Room 102, Gallatin, Tennessee.
———
White House (City), Summer County (FEMA Docket No. D-7522)
Arterburn Branch:
At the confluence with Honey Run Creek | *743
Approximately 0.74 mile upstream of the confluence with Honey Run Creek | *769
Jones Branch:
At the confluence with Honey Run Creek | *743
Approximately 0.7 mile upstream of Tyree Springs Road | *805
Honey Run Creek:
Approximately 450 feet downstream of U.S. Route 31 West | *712
At the confluence of Jones Branch and Arterburn Branch | *743
Maps avaiable for inspection at the White House Codes Department, 105 College Street, White House, Tennessee.
WISCONSIN
Sheboygan (City), Shelboygan County (FEMA Docket No. D-7504)
Lake Michigan:
At point approximately 200 feet east of the intersection of Michigan Avenue and Broughton Drive | *590
Approximately 900 feet northeast of the intersection of Indiana Avenue and South Seventh Street | #1
Approximately 1,000 feet northeast of the intersection of North Avenue and North Fifth Street | *587
Maps available for inspection at the Sheboygan City Hall, 828 Center Avenue, Sheboygan, Wisconsin.
———
Sheboygan County (Unincorporated Areas) (FEMA Docket No. D-7504)
Lake Michigan:
A point approximately 0.8 mile southeast of the intersection of County Trunk Highway KK and Moennig Road | *590
Approximately 1,000 feet east of the intersection of Vaness Road and Pine Beach Road | *587
A point approximately 250 feet east of the intersection of South Pine Beach Road and Stokdyke-Ingelse Road | #1
At the intersection of DeWitt Road and Teronde Beach Road | *584
Maps available for inspection at the Sheboygan County Planning and Resources Department, 508 New York Avenue, Sheboygan, Wisconsin.
WEST VIRGINIA
Capon Bridge (Town), Hampshire County (FEMA Docket No. D-7502)
Dillons Run:
At the confluence with the Cacapon River | *814
At a point approximately 2,600 feet upstream of the confluence with the Cacapon River | *814
Cacapon River:
At a point approximately 2,450 feet downstream of U.S. Route 50 | *811
At a point approximately 4,350 feet upstream of U.S. Route 50 | *817
Maps available for inspection at the Capon Bridge Town Building, Route 50 East, Capon Bridge, West Virginia.
———
Hampshire County (Unincorporated Areas) (FEMA Docket No. D-7502)
Cacapon River:
At a point approximately 1.6 miles downstream of U.S. Route 50 | *807
At a point approximately 1.9 miles upstream of U.S. Route 50 | *820
Big Run:
At the confluence with the South Branch Potomac River | *680
At a point approximately 475 feet upstream of Grassy Lick Road | *1,057
Dillons Run:
At a point approximately 2,600 feet upstream of the confluence with the Cacapon River | *814
At a point approximately 2,850 feet upstream of the confluence with the Cacapon River | *814
Green Spring Run:
At the confluence with North Branch Potomac River | *535
At a point approximately 4.2 miles upstream of Green Spring Valley Road | *649
Little Cacapon River:
At a point approximately 1.1 miles downstream of Little Cacapon Road | *977
At upstream side of Little Cacapon Road | *1,011
North Fork Little Cacapon River:
At confluence with Little Cacapon River | *1,011
At a point approximately 1.1 miles upstream of Heide Cooper Road | *1,141
South Fork Little Cacapon River:
At confluence with Little Cacapon River | *1,011
At a point approximately 1.9 miles up-stream of U.S. Route 50 | *1,129
Mill Branch:
At confluence with Cacapon River | *818
At a point approximately 2.5 miles upstream of U.S. Route 50 | *949
North River:
At a point approximately 7.2 miles downstream of U.S. Route 50 | *822
At a point approximately 3.3 miles upstream of U.S. Route 50 | *906
South Branch Potomac River:
Upstream side of the Baltimore & Ohio Railroad bridge | *559
Approximately 2.84 miles upstream of confluence of Big Run | *686
Maps available for inspection at the Hampshire County Courthouse, 66 North High Street, Romney, West Virginia 26757.
———
Romney (Town), Hampshire County (FEMA Docket No. D-7502)
Big Run:
At a point approximately 225 feet downstream of State Route 28 | *738
At a point approximately 0.8 mile upstream of State Route 28 | *838
Maps available for inspection at the Romney Town Building, 340 East Main Street, Romney, West Virginia.

(Catalog of Federal Domestic Assistance No. 83.100, “Flood Insurance”)
Dated: July 2, 2002.
Robert F. Shea,
Acting Administrator, Federal Insurance and Mitigation Administration.

[FR Doc. 02-17269 Filed 7-9-02; 8:45 am]

BILLING CODE 6718-04-P